ENVIRONMENTAL PROTECTION AGENCY

[EPA-HQ-OAR-2022-0105; FRL-10176-01-OMS]

Information Collection Request Submitted to OMB for Review and Approval; Comment Request; Renewable Fuel Standard (RFS) Program (Renewal)

AGENCY: Environmental Protection Agency (EPA).

ACTION: Notice.

SUMMARY: The Environmental Protection Agency (EPA) has submitted an information collection request (ICR), “Renewable Fuel Standard (RFS) Program” (EPA ICR Number 2546.03, OMB Control Number 2060-0725) to the Office of Management and Budget (OMB) for review and approval in accordance with the Paperwork Reduction Act. This is a proposed extension of the ICR, which is currently approved through August 31, 2022. Public comments were previously requested via the Federal Register on February 11, 2022, during a 60-day comment period. This notice allows for an additional 30 days for public comments. A fuller description of the ICR is given below, including its estimated burden and cost to the public. An agency may not conduct, or sponsor and a person is not required to respond to a collection of information unless it displays a currently valid OMB control number.

DATES: Additional comments may be submitted on or before September 29, 2022.

ADDRESSES: Submit your comments, referencing Docket ID Number EPA-HQ-OAR-2020-0105 online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Anne-Marie Pastorkovich, Mail Code 6405A, Environmental Protection Agency, 1200 Pennsylvania Ave. NW, Washington, DC 20460; telephone number: 202-343-9623 ; email address: pastorkovich.anne-marie@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR package is a renewal of an existing collection. The Renewable Fuel Standard (RFS) regulations are in 40 CFR part 80, subpart M. Because it is more efficient and easier for regulated parties to understand, we seek to consolidate the following approved ICRs into this collection: “Modifications to Fuel Regulations to Provide Flexibility for E15; Modifications to RFS RIN Market Regulations (Final Rule),” OMB Control Number 2060-0723, expiring November 30, 2022; and “Renewable Fuel Standard Program: Standards for 2020 and Biomass-Based Diesel Volume for 2021, Response to the Remand of the 2016 Standards, and Other Changes (Final Rule),” OMB Control Number 2060-0728, expiring December 31, 2023.

What is the RFS Program?

The RFS program was created under the Energy Policy Act of 2005 (EPAct), which amended the Clean Air Act (CAA). The Energy Independence and Security Act of 2007 (EISA) further amended the CAA by expanding the RFS program. The RFS program is a national policy that requires a certain volume of renewable fuel to replace or reduce the quantity of petroleum-based transportation fuel, heating oil or jet fuel.

What are the Recordkeeping and Reporting Requirements Associated with the RFS Program?

The reporting requirements of the RFS program typically fall under registration and compliance reporting. Recordkeeping requirements include product transfer documents (PTDs) and retention of records that support items reported. Because RFS relies upon a marketplace of RINs, EPA has created and maintains the EPA Moderated Transaction System (EMTS) capable of handling a high volume of RIN trading activities.

Who are the Respondents for the RFS Program?

The respondents to this ICR are RIN Generators (producers and importers of renewable fuel), Obligated Parties (refiners and importers of gasoline and diesel), Exporters, RIN Owners, independent third-party Quality Assurance Plan (QAP) Providers, Third Parties (Auditors who submit reports on behalf of other respondents), and certain petitioners under the international aggregate compliance approach (such petitions are infrequent).

Respondents/affected entities: RIN Generators, Obligated Parties, RIN Owners, Exporters, QAP Providers, Third Parties (Auditors) and Petitioners under the international aggregate compliance approach. These parties include producers and importers of renewable fuels and refiners and importers of gasoline and diesel transportation fuels.

Respondent's obligation to respond: Mandatory.

Estimated number of respondents: 45,558 (total).

Frequency of response: On occasion/daily, quarterly, annual.

Total estimated burden: 860,971 hours (per year). Burden is defined at 5 CFR 1320.03(b).

Total estimated cost: $23,039,905 (per year),¹ all of which is purchased services, and includes $0 annualized capital or operation & maintenance costs.

¹ The total labor and non-labor cost of this collection is estimated at $93,160,406; only non-labor costs are reflected in the OMB inventory. The supporting statement and detailed burden estimate tables explain these costs.

Changes in the Estimates: There is net decrease of 66,917 hours in the total estimated respondent burden compared with the ICRs (as discussed above, this ICR combines three ICRs in the renewal of 2060-0725; these three total 927,888 hours) currently approved by OMB. This decrease is due to several factors. Certain reporting burdens (e.g., initial registration or initial programming of product codes) are one-time and front-loaded as far as their hourly burden; and this leads to a decrease in total hours upon renewal in subsequent years. The number of parties participating in various recordkeeping and reporting activities based upon their roles in the program is somewhat fluid, and activity varies with economic conditions, and we tended to be overly generous in our initial estimates. Upon renewal, we use the actual number of registrants, by role; this ICR renewal uses the total number of parties registered in October 2021. Finally, we showed our estimates to industry representatives who are actual respondents (to perform industry consultations) and made adjustments to the hours spent in recordkeeping and reporting, and to the hourly rates used to estimate cost, based upon their feedback, and as described in the docketed supporting statement.

Courtney Kerwin,
Director, Regulatory Support Division.

[FR Doc. 2022-18708 Filed 8-29-22; 8:45 am]

BILLING CODE 6560-50-P